DEPARTMENT OF ENERGY

Federal Energy Regulatory Commission

[Project No. 11286-028]

City of Abbeville; Notice of Intent To File License Application, Filing of Pre-Application Document, and Approving Use of the Traditional Licensing Process

a. Type of Filing: Notice of Intent to File License Application and Request to Use the Traditional Licensing Process (TLP).

b. Project No.: 11286-028.

c. Dated Filed: November 29, 2022.

d. Submitted By: City of Abbeville.

e. Name of Project: Abbeville Hydroelectric Project.

f. Location: On the Rocky River in Abbeville and Anderson Counties, South Carolina. No federal lands are occupied by the project works or located within the project boundary.

g. Filed Pursuant to: 18 CFR 5.3 of the Commission's regulations.

h. Applicant Contact: Tim Hall, Director of Public Utilities, City of Abbeville, 306 Cambridge Street, Abbeville, SC 29620; Phone: (864) 366-5058, Email: thall@abbevillecitysc.com.

i. FERC Contact: Kristine Sillett at (202) 502-6575 or kristine.sillett@ferc.gov.

j. The City of Abbeville filed its request to use the TLP on November 29, 2022. The City of Abbeville provided public notice of its request on November 30, 2022. In a letter dated January 26, 2023, the Director of the Division of Hydropower Licensing approved the City of Abbeville's request to use the TLP.

k. With this notice, we are initiating informal consultation with the U.S. Fish and Wildlife Service and/or NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the South Carolina State Historic Preservation Officer, as required by section 106, National Historic Preservation Act, and the implementing regulations of the Advisory Council on Historic Preservation at 36 CFR 800.2.

l. With this notice, we are designating the City of Abbeville as the Commission's non-federal representative for carrying out informal consultation, pursuant to section 7 of the Endangered Species Act and section 305(b) of the Magnuson-Stevens Fishery Conservation and Management Act; and consultation pursuant to section 106 of the National Historic Preservation Act.

m. The City of Abbeville filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY).

o. The licensee states its unequivocal intent to submit an application for a new license for Project No. 11286. Pursuant to 18 CFR 16.8, 16.9, and 16.10 each application for a new license and any competing license applications must be filed with the Commission at least 24 months prior to the expiration of the existing license. All applications for license for this project must be filed by November 30, 2025.

p. Register online at https://ferconline.ferc.gov/eSubscription.aspx to be notified via email of new filing and issuances related to this or other pending projects. For assistance, contact FERC Online Support.

Dated: January 26, 2023.
Debbie-Anne A. Reese,
Deputy Secretary.

[FR Doc. 2023-02089 Filed 1-31-23; 8:45 am]

BILLING CODE 6717-01-P